DEPARTMENT OF EDUCATION

[Docket ID ED-2017-OCO-0139]

Request for Information on Obtaining Input From Rural Schools and Local Educational Agencies

AGENCY: Office of Communications and Outreach, Department of Education.

ACTION: Request for information.

SUMMARY: In accordance with section 5005 of the Every Student Succeeds Act (ESSA), the Secretary seeks information from the public regarding actions the Department of Education (Department) can take to improve how it considers the unique needs of rural schools and local educational agencies (LEAs) as it develops and implements its policies and programs. The Secretary intends to use this information in issuing a final report, required under section 5005, describing the actions it will take to increase the consideration and participation of rural schools and LEAs in the development and execution of the Department's processes, procedures, policies, and regulations.

DATES: We must receive your comments no later than February 20, 2018.

ADDRESSES: Submit your comments through the Federal eRulemaking Portal or via postal mail, commercial delivery, hand delivery, or email. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “Help” tab.

Postal Mail, Commercial Delivery, Hand Delivery, or Email: The Department encourages commenters to submit their comments through the Federal eRulemaking Portal. However, if you mail or deliver your comments in response to this request, address them to Michael Chamberlain, U.S. Department of Education, 400 Maryland Avenue SW, Room 5E260, Washington, DC 20202. If you email your comments, send them to rural@ed.gov.

Privacy Note: The Department's policy is to make all comments received from members of the public available for public viewing in their entirety on the Federal eRulemaking Portal at www.regulations.gov. Therefore, commenters should be careful to include in their comments only information that they wish to make publicly available.

Note: This is a request for information (RFI) only. This RFI is not a request for proposals (RFP) or a promise to issue an RFP or a notice inviting applications. This RFI does not commit the Department to contract for any supply or service whatsoever. Further, the Department is not seeking proposals and will not accept unsolicited proposals. The Department will not pay for any information or administrative costs that you may incur in responding to this RFI. If you do not respond to this RFI, you may still apply for future contracts and grants. The documents and information submitted in response to this RFI become the property of the U.S. Government and will not be returned.

FOR FURTHER INFORMATION CONTACT: Michael Chamberlain, U.S. Department of Education, 400 Maryland Avenue SW, Room 5E260, Washington, DC 20202. Telephone: (202) 453-7527 or by email: Michael.chamberlain@ed.gov.

If you use a telecommunications device for the deaf or a text telephone, call the Federal Relay Service, toll free, at 1-800-877-8339.

SUPPLEMENTARY INFORMATION:

Background: Section 5005 of the ESSA (Pub. L. 114-95), which was enacted on December 10, 2015, requires the Department to: “review the organization, structure, and process and procedures of the Department of Education for administering its programs and developing policy and regulations, in order to—

(A) assess the methods and manner through which, and the extent to which, the Department of Education takes into account, considers input from, and addresses the unique needs and characteristics of rural schools and rural local educational agencies; and

(B) determine actions that the Department of Education can take to meaningfully increase the consideration and participation of rural schools and rural local educational agencies in the development and execution of the processes, procedures, policies, and regulations of the Department of Education.”

Section 5005 also requires the Department to publish a preliminary report containing the information described above and provide Congress and the public with 60 days to comment on the proposed actions. Thereafter, the Department must issue a final report to the Department's authorizing committees in the U.S. House of Representatives and Senate and carry out each action described in the final report or explain to the authorizing committees the reason for not carrying out any action described in the final report.

Request for Information: Since the passage of the ESSA, the Department has been engaging in the required review and report, including conducting listening sessions on issues facing rural schools and LEAs and ways the Department can address those issues. The Department has published the preliminary report on its website at: https://blog.ed.gov/2017/12/public-comment-sought-report-obtaining-input-rural-schools-local-educational-agencies. It gives a brief overview of how the Department is organized and describes how the Department solicited and incorporated input from rural stakeholders as it developed the preliminary report. Additionally, the report explains the processes we currently use to incorporate the rural perspective into our policies and procedures, including processes we have recently implemented in response to stakeholder input, and describes additional proposed actions we can take.

While we invite comment on the entire report, we particularly encourage comment on the proposed actions, as described in the section of the report titled “Additional Actions the Department Can Take to Increase Rural Stakeholder Input.” Specifically, we request feedback on whether:

1. The actions described in the preliminary report will meaningfully increase the consideration and participation of rural schools and LEAs in the development and execution of the Department's processes, procedures, policies, and regulations; and

2. There are other actions the Department can take to achieve this goal.

Accessible Format: Individuals with disabilities can obtain this document in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site, you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Dated: December 15, 2017.
Betsy DeVos,
Secretary of Education.

[FR Doc. 2017-27442 Filed 12-19-17; 8:45 am]

BILLING CODE 4000-01-P